DEPARTMENT OF DEFENSE

Department of the Army; Corps of Engineers

Intent To Prepare a Programmatic Environmental Impact Statement for a Proposed Introduction of the Oyster Species, Crassostrea ariakensis, Into the Tidal Waters of Maryland and Virginia To Establish a Naturalized, Reproducing, and Self-Sustaining Population of This Oyster Species; Correction

AGENCY: Department of the Army; U.S. Army Corps of Engineers, DoD.

ACTION: Notice; meeting location correction.

SUMMARY: The public scoping meeting scheduled at the MD DNR in the Tawes Building, Annapolis, Maryland 21401 on January 26, 2004 at 7 p.m. and the public scoping meeting scheduled at the VMRC offices at 2600 Washington Avenue, Newport News, Virginia on January 28, 2004 at 6 p.m. published in the Federal Register on Monday, January 5, 2004 (Vol. 69 FR 330) have been moved. The public scoping meeting in Maryland will now be held at the Radisson Hotel Annapolis, 210 Holiday Court, Annapolis, Maryland 21401 on the same date and at the same time, January 26, 2004 at 7 p.m. The public scoping meeting in Virginia will now be held at Warwick High School, 51 Copeland Lane, Newport News, VA on the same date and at the same time, January 28, 2004 at 6 p.m.

FOR FURTHER INFORMATION CONTACT: Mr. Peter Kube at the Corps of Engineers, (757) 441-7504, Mr. Thomas O'Connell, Fisheries Service, Maryland DNR, (410) 260-8261, or Mr. Jack Travelstead, Virginia Marine Resources Commission, (757) 247-2247.

Luz D. Ortiz,
Army Federal Register Liaison Officer.

[FR Doc. 04-884 Filed 1-14-04; 8:45 am]

BILLING CODE 3710-EN-M